DEPARTMENT OF DEFENSE

Department of the Air Force

United States Air Force Scientific Advisory Board Notice of Meeting

AGENCY: Department of the Air Force, Air Force Scientific Advisory Board, DOD.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense hereby announces that the United States Air Force (USAF) Scientific Advisory Board (SAB) Fall Board meeting will take place from 8:00 a.m. to 4:30 p.m. on September 23, 2015 at the SAFTAS Conference and Innovation Conference Center, located on the plaza level of 1550 Crystal Drive in Crystal City, Virgina. The purpose of this Air Force Scientific Advisory Board quarterly meeting is to receive strategic level briefings related to Science and Technology from Air Force Senior Leaders, and to initiate planning for FY16 studies. In accordance with 5 U.S.C. 552b, as amended, and 41 CFR 102-3.155, several sessions of the USAF SAB Fall Board meeting will be closed to the public because they will discuss classified information covered by section 5 U.S.C. 552b(c)(1). The session that will be open to the general public will be held from 9:30 a.m. to 10:30 a.m. on September 23, 2015.

Any member of the public that wishes to attend this meeting or provide input to the USAF SAB must contact the Designated Federal Officer at the phone number or email address listed below at least five working days prior to the meeting date. Please ensure that you submit your written statement in accordance with 41 CFR 102-3.140(c) and section 10(a)(3) of the Federal Advisory Committee Act. Statements being submitted in response to the agenda mentioned in this notice must be received by the Designated Federal Officer at the address listed below at least five calendar days prior to the meeting commencement date. The Designated Federal Officer will review all timely submissions and respond to them prior to the start of the meeting identified in this noice. Written statements received after this date may not be considered by the USAF SAB until the next scheduled meeting.

FOR FURTHER INFORMATION CONTACT: Major Mike Rigoni at, michael.j.rigoni.mil@mail.mil or 240-612-5504, United States Air Force Scientific Advisory Board, 1500 West Perimeter Road, Ste. #3300, Joint Base Andrews, MD 20762.

Henry Williams,
Acting Air Force Federal Register Liaison Officer, DAF.

[FR Doc. 2015-19198 Filed 8-4-15; 8:45 am]

BILLING CODE 5001-10-P